DEPARTMENT OF AGRICULTURE

Submission for OMB Review; Comment Request

The Department of Agriculture will submit the following information collection request to the Office of Management and Budget (OMB) for review and clearance under the Paperwork Reduction Act of 1995 (44 U.S.C. Chapter 35). Comments are invited on: (1) whether the proposed collection of information is necessary for the proper performance of the functions of the agency, including whether the information will have practical utility; (2) the accuracy of the agency's estimate of the burden of the proposed collection, including the validity of the methodology and assumptions used; (3) ways to enhance the quality, utility, and clarity of the information to be collected; and (4) ways to minimize the burden of the collection of information on respondents, including through the use of automated collection techniques or other forms of information technology.

Comments must be received by December 22, 2025 to be assured of consideration. Written comments and recommendations for the proposed information collection should be submitted within 30 days of the publication of this notice at www.reginfo.gov/public/do/PRAMain. Find this particular information collection by selecting “Currently under 30-day Review—Open for Public Comments” or by using the search function.

An agency may not conduct or sponsor a collection of information unless it displays a currently valid OMB control number. Individuals are not required to respond to a collection of information unless it displays a valid OMB control number.

National Agricultural Statistics Service (NASS)

Title: Cooperator Funded Chemical Use Surveys—Substantive Change.

OMB Control Number: 0535-0273.

Summary of Collection: The National Agricultural Statistics Service (NASS) is authorized under 7 U.S.C. 2204 to collect and preserve agricultural information, including through the collection of statistics. NASS's mission is to provide timely, accurate, and useful statistics on agricultural production, economics, and environmental practices. To fulfill this mission, NASS conducts a variety of surveys that track changes in agricultural practices over time.

NASS is submitting a substantive change request to revise the currently approved information collection for the Cooperator Funded Chemical Use Surveys. This revision pertains specifically to the 2026 Minnesota Pesticide and Fertilizer Survey. While the overall purpose and scope of the survey remain unchanged, several questionnaire items have been reworded, clarified, or replaced to improve data quality and respondent comprehension. These updates are designed to enhance the accuracy and usability of the data without increasing respondent burden. The revised questionnaire will be used for phone enumeration beginning in February 2026, as requested by the sponsoring agency.

Need and Use of the Information: The proposed changes will simplify survey questions for respondents and better align the data collected with future analytical needs. The information supports agricultural policy development, environmental monitoring, and resource management.

Description of Respondents: Farms and Ranches.

Number of Respondents: 24,200.

Frequency of Responses: Reporting: Once per year.

Total Burden Hours: 11,571.

Levi S. Harrell,
Departmental Information Collection Clearance Officer.

[FR Doc. 2025-20459 Filed 11-19-25; 8:45 am]

BILLING CODE 3410-20-P